INTERNATIONAL TRADE COMMISSION

Sunshine Act Meeting; Emergency Notice of Time Change

AGENCY HOLDING THE MEETING: United States International Trade Commission.

TIME: June 29, 2001.

ORIGINAL TIME: 2:00 p.m.

NEW TIME: 1:30 p.m.

PLACE: Room 101, 500 E Street SW., Washington, DC 20436, Telephone: (202) 205-2000.

STATUS: Open to the public.

In accordance with 19 CFR 201.35(d)(1), the Commission hereby gives notification that the time of the meeting being held June 29, 2001, has changed from 2:00 p.m. to 1:30 p.m. Earlier notice of such change was not possible.

By order of the Commission:
Issued: June 27, 2001.
Donna R. Koehnke,
Secretary.

[FR Doc. 01-16646 Filed 6-27-01; 5:01 pm]

BILLING CODE 7020-02-M